DEPARTMENT OF HOMELAND SECURITY

Federal Emergency Management Agency

[Docket ID: FEMA-2014-0017; OMB No. 1660-0085]

Agency Information Collection Activities: Proposed Collection; Comment Request; Crisis Counseling Assistance and Training Program

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the Crisis Counseling Assistance and Training Program which provides funding in response to a State's request for crisis counseling services for a presidentially declared major disaster.

DATES: Comments must be submitted on or before August 12, 2014.

ADDRESSES: To avoid duplicate submissions to the docket, please use only one of the following means to submit comments:

(1) Online. Submit comments at www.regulations.gov under Docket ID FEMA-2014-0017. Follow the instructions for submitting comments.

(2) Mail. Submit written comments to Docket Manager, Office of Chief Counsel, DHS/FEMA, 500 C Street SW., Room 8NE, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Tanya Stevenson, Program Specialist, FEMA, Individual Assistance Division, Community Services and Volunteer Agency Coordination Branch, (202) 212-5719, for additional information. You may contact the Records Management Division for copies of the proposed collection of information at facsimile number (202) 212-4701 or email address: FEMA-Information-Collections-Management@dhs.gov.

SUPPLEMENTARY INFORMATION: Section 416 of the Robert T. Stafford Disaster Relief and Emergency Assistance Act, (Pub. L. 93-288, as amended) (“Stafford Act”), authorizes the President to provide financial assistance to States, U.S. Territories, and Federally recognized Indian Tribal governments for professional counseling services to survivors of major disasters to relieve mental health problems caused or aggravated by a major disaster or its aftermath. FEMA has codified Section 416 of the Stafford Act at section 44 CFR 206.171 entitled Crisis Counseling Assistance and Training. Under Section 416 of the Stafford Act and 44 CFR 206.171, the President has designated the Department of Health and Human Services-Center for Mental Health Services (HHS-CMHS) to coordinate with FEMA in administering the Crisis Counseling Assistance and Training Program (CCP). FEMA and HHS-CMHS signed an interagency agreement under which HHS-CMHS provides program oversight, technical assistance and training to States applying for CCP funding.

Collection of Information

Title: Crisis Counseling Assistance and Training Program.

Type of Information Collection: Revision of a currently approved information collection.

OMB Number: 1660-0085.

FEMA Forms: FEMA Form 003-0-1, Crisis Counseling Assistance and Training Program, Immediate Services Program Application; FEMA Form 003-0-2, Crisis Counseling Assistance and Training Program, Regular Services Program Application; SF-424, Application for Federal Assistance; SF-424A, Budget Information for Non-Construction Programs; SF-425, Federal Financial Report; HHS Checklist/08-2007; HHS Project Performance Site Location Form.

Abstract: The CCP consists of two grant programs, the Immediate Services Program (ISP) and the Regular Services Program (RSP). The ISP and the RSP provide supplemental funding to States, U.S. Territories, and Federally recognized Tribes following a Presidentially-declared disaster. The grant programs provide funding for Training and Services, including community outreach, public education, and counseling techniques. States are required to submit an application that provides information on Needs Assessment, Plan of Service, Program Management, and an accompanying Budget.

Number of Respondents: 150.

Number of Responses: 165.

Estimated Total Annual Burden Hours: 1,515 hours.

Type of respondent | Form name/form No. | Number of respondents | Number of responses per respondent | Total number of responses | Average burden per response (in hours) | Total annual burden (in hours) | Avergage hourly wage rate | Total annual respondent cost
State, local or Tribal Government | CCP/ISP Crisis Counseling Assistance and Training Program, Immediate Services Program Application/ FEMA Form 003-0-1 | 15 | 1 | 15 | 8 | 120 | $55.76 | $6,691
State, local or Tribal Government | CCP/ISP Final Report Narrative, (Immediate Services Program)/No Form # | 15 | 1 | 15 | 8 | 120 | 55.76 | 6,691
State, local or Tribal Government | CCP/RSP Crisis Counseling Assistance and Training Program, Regular Services Program Application/FEMA Form 003-0-2 | 15 | 1 | 15 | 20 | 300 | 55.76 | 16,728
State, local or Tribal Government | CCP/RSP Quarterly Report Narrative, (Regular Services Program)/No Form # | 15 | 2 | 30 | 15 | 450 | 55.76 | 25,092
State, local or Tribal Government | CCP/RSP Final Report Narrative, (Regular Services Program)/No Form # | 15 | 1 | 15 | 30 | 450 | 55.76 | 25,092
State, local or Tribal Government | Standard Form 424 | 15 | 1 | 15 | 1 | 15 | 55.76 | 836.40
State, local or Tribal Government | Standard Form 424A | 15 | 1 | 15 | 1 | 15 | 55.76 | 836.40
State, local or Tribal Government | Standard Form 425 | 15 | 1 | 15 | 1 | 15 | 55.76 | 836.40
State, local or Tribal Government | Project Performance Site Location Form | 15 | 1 | 15 | 1 | 15 | 55.76 | 836.40
State, local or Tribal Government | Standard HHS Checklist Form | 15 | 1 | 15 | 1 | 15 | 55.76 | 836.40
Total |  | 150 |  | 165 |  | 1515 |  | 84,476.40
• Note: The “Avg. Hourly Wage Rate” for each respondent includes a 1.4 multiplier to reflect a fully-loaded wage rate.

Estimated Cost: The estimated annual cost to respondents for the hour burden is $84,476.40. There are no annual costs to respondents operations and maintenance costs for technical services. There is no annual start-up or capital costs. The cost to the Federal Government is $107,717.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 9, 2014.
Charlene D. Myrthil,
Director, Records Management Division, Mission Support Bureau, Federal Emergency Management Agency, Department of Homeland Security.

[FR Doc. 2014-13864 Filed 6-12-14; 8:45 am]

BILLING CODE 9111-23-P